DEPARTMENT OF COMMERCE

International Trade Administration

[A-570-846]

Brake Rotors from the People's Republic of China: Extension of Final Results of Expedited Sunset Review of Antidumping Duty Order

AGENCY: Import Administration, International Trade Administration, Department of Commerce.

EFFECTIVE DATE: November 5, 2007.

FOR FURTHER INFORMATION CONTACT: Frances Veith, Import Administration, International Trade Administration, U.S. Department of Commerce, 14th Street & Constitution Avenue, NW, Washington, DC 20230; telephone: (202) 482-4295.

SUPPLEMENTAL INFORMATION: On July 2, 2007, the Department of Commerce (“the Department”) initiated a sunset review of the antidumping duty order on brake rotors from the People's Republic of China (“PRC”) pursuant to section 751(c) of the Tariff Act of 1930, as amended (“the Act”). See Initiation of Five-year (“Sunset”) Reviews, 72 FR 35968 (July 2, 2007) (“Initiation Notice”). Based on adequate responses from the domestic interested party and an inadequate response from respondent interested parties, the Department is conducting an expedited sunset review to determine whether revocation of the antidumping order would lead to the continuation or recurrence of dumping, pursuant to section 751(c)(3)(B) of the Act and section 351.218(e)(1)(ii)(C)(2) of the Department's regulations. See Memorandum to the International Trade Commission regarding, “Expedited Sunset Review of the AD/CVD Order Initiated in July 2007,” dated August 21, 2007.

Extension of Time Limits for Final Results

In accordance with section 751(c)(5)(B) of the Act, the Department may extend the period of time for making its determination by not more than 90 days, if it determines that a review is extraordinarily complicated. As set forth in section 751(c)(5)(C)(i) of the Act, the Department may treat a sunset review as extraordinarily complicated if there are a large number of issues, as is the case in this proceeding. In particular, this sunset review involves complicated issues pertaining to adequacy of responses, related party status, and interested party status. Therefore, the Department has determined, pursuant to section 751(c)(5)(C)(i) of the Act, that the second sunset review of brake rotors from the PRC is extraordinarily complicated, as the Department must consider numerous arguments presented in the domestic interested party's and a domestic importer's August 1, 2007, substantive response and each parties' August 6, 2007, rebuttals to the substantive responses. Based on the timing of the case, the final results of this expedited sunset review cannot be completed within the statutory time limit of 120 days. Accordingly, the Department is extending the time limit for the completion of the final results by 30 days from the original October 30, 2007, deadline, to November 29, 2007, in accordance with section 751(c)(5)(B) of the Act. This notice is published pursuant to sections 751(a)(2)(B)(iv) and 777(i)(1) of the Act.

Dated: October 30, 2007.
Stephen J. Claeys,
Deputy Assistant Secretary for Import Administration.

[FR Doc. E7-21702 Filed 11-2-07; 8:45 am]

BILLING CODE 3510-DS-S